DEPARTMENT OF HEALTH AND HUMAN SERVICES

Administration for Community Living

Agency Information Collection Activities; Proposed Collection; Public Comments Request; New Data Collection; National Center on Law and Elder Rights (NCLER)

AGENCY: Administration for Community Living, HHS.

ACTION: Notice.

SUMMARY: The Administration for Community Living (ACL) is announcing an opportunity for the public to comment on ACL's intention to collect information from legal and aging/disability service professionals. Under the Paperwork Reduction Act of 1995 (the PRA), Federal agencies are required to publish a notice in the Federal Register concerning each proposed collection of Information and to allow 60 days for public comment in response on the proposed action. This notice solicits comments on proposed information collection requirements relating to ACL funded training, case consultation, and technical assistance for aging/disability networks assisting older adults in social or economic need facing legal issues.

DATES: Submit written or electronic comments on the collection of information by February 5, 2018.

ADDRESSES: Submit electronic comments on the collection of information to Omar Valverde at omar.valverde@acl.hhs.gov. Submit written comments on the collection of information by mail to Omar Valverde, Administration for Community Living, Washington, DC 20201.

FOR FURTHER INFORMATION CONTACT: Omar Valverde at omar.valverde@acl.hhs.gov or (202) 795-7460.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information, including each proposed extension or update of an existing collection of information, before submitting the collection to OMB for approval. The proposed collection of information represents new information requested from aging/disability networks to fulfill requirements regarding the provision of services and overall performance of ACL legal assistance programs.

To comply with the above requirement, ACL is publishing a notice regarding the proposed collection of information set forth in this document. ACL contracts with a national legal assistance resource center, the National Center on Law and Elder Rights, to provide the required services. Through the contract, ACL provides aging, disability, and related legal professionals with training and complex case consultations and support for demonstration projects regarding contractually identified priority legal topics.

The purpose of the information requested is for ACL to ensure that the resource center creates and prioritizes the training, case consultations and technical assistance resources it was contracted to provide and to ensure that the center targets the contractually designated aging network practitioners about the priority subject matters. This approach enables ACL to make data-informed decisions about the deployment of its resource center assets. These data are necessary for ACL to evaluate contractual compliance with established performance indicators. These metrics include quantifiable increases in uptake by stakeholders of training, case consultation and technical assistance, and measures of satisfaction with and perceived benefit from these services. For example, the metrics measure successful problem resolution as a result of the services provided, quantifiable data on fulfillment of requests for training, technical assistance, and consultation related to the contractually designated legal and systems development topic areas.

Interested persons are invited to send comments regarding burden estimates or any other aspect of this collection of information, including the following subjects: (1) Whether the proposed collection of information is necessary for the proper performance of ACL's functions, including whether the information will have practical utility; (2) the accuracy of ACL's estimate of the burden of the proposed collection of information, including the validity of the methodology and assumptions used; (3) ways to enhance the quality, utility, and clarity of the information to be collected; and (4) ways to minimize the burden of the collection of information on respondents, including through the use of automated collection techniques, when appropriate, and other forms of information technology.

Proposed Collection of Information

ACL plans to submit the proposed data collection to the Office of Management and Budget for approval following receipt of any comments received in response to this notice. The information to be requested by ACL from legal and aging/disability professionals fall into the following areas: (1) Requests for training, case consultation, and technical assistance through an online, secure Uniform Resource Support Request Tool; (2) general requests for Legal Training (including the volume of Webinar registrations); Case Consultation and Technical Assistance; and (3) information about satisfaction and use of the services and support received in order to enable ACL to measure performance outcomes.

(1) Resource Support Requests

ACL proposes to ask aging/disability service providers and legal service providers who may need various forms of resource support a series of questions regarding appropriate delivery of needed assistance in a targeted and efficient manner. These questions will be presented through a web based Uniform Resource Support Request Tool (URSRT) that will be used for soliciting and accepting requests for Legal Training, Case Consultation, and Technical Assistance (Link to URSRT).

Estimated Number of Responses

ACL expects to receive (30) responses to questions presented in the URSRT from Legal Assistance Developers (LADs) (Title VII, Section 731) housed in SUAs and (50) responses from Older Americans Act (OAA) Title III-B legal providers in the first year. In subsequent years, the URSRT will be targeted for use by other groups within aging/disability and elder rights networks and may experience a large increase in responses.

Total Estimated Burden Hours

The burden hours are calculated as (1) minute and 54 seconds to complete the URSRT per respondent, with a total of 2.53 hours, annually. Attachment A, which is posted along with the draft forms on the acl.gov Web site, explains the estimated response rate and burden calculations.

(2) Legal Training, Case Consultation, Technical Assistance Requests

ACL proposes to ask legal and aging/disability providers who request Legal Training, Case Consultation, or Technical Assistance through the web-based Uniform Resource Support Request Tool (URSRT) for background information and the following substantive data:

• Type of Organization (Title III-B attorney, Legal Services Corporation attorney, Other Legal Services attorney, Other Elder Law attorney, Other Legal Services professional, Aging and/or Disability Network Professional, Other); and

• Services requested: (Legal Training, Case Consultation, Technical Assistance on Legal Services Delivery, or General Information).

Estimated Number of Responses

Based on the results of prior data collections, ACL expects between 13,000 and 14,000 requests annually through the web-based Uniform Resource Support Request Tool (URSRT). In subsequent years, enhanced public awareness of the availability of Legal Training, Case Consultation, and Technical Assistance within aging/disability/legal networks may increase potential responses to as high as 16,000.

Total Estimated Burden Hours

The burden of hours is calculated at (1) minute 42 seconds for each respondent to make a request for Training, Case Consultation, or Technical Assistance. ACL estimates a high end of 14,000 responses with burden hours totaling 396 hours, annually. Attachment A, which is posted along with the draft forms on the acl.gov Web site, explains the estimated response rate and the burden calculation.

(3) Performance Outcome Measurement

ACL proposes to ask legal and aging/disability providers, who request Legal Training, Case Consultation or Technical Assistance, the following series of survey questions in order to properly assess audience targeting, participant satisfaction, and outcomes of the training and technical assistance delivered:

• Type of Organization (Title III-B attorney, Legal Services Corporation attorney, Other Legal Services attorney, Other Elder Law attorney, Other Legal Services professional, Aging and/or Disability Network Professional, and Other Job Title (e.g., Executive Director, Management, Staff Attorney, Counselor);

• Please rank the quality of assistance provided in this (Legal Training/Case Consultation/Technical Assistance);

• Did the assistance provided by this (Legal Training/Case Consultation/Technical Assistance) contribute to a successful resolution of a specific client issue?

• If requesting assistance on legal services delivery, will the assistance provided contribute to the successful completion of legal needs and capacity assessments, legal services delivery plans, legal service delivery standards, or data collection/reporting systems?

Estimated Number of Responses

ACL expects between 3,000 and 3,500 responses to follow up surveys presented through the web-based Uniform Resource Support Request Tool (URSRT) gaging participant satisfaction and service impacts derived from Training, Case Consultation, or Technical Assistance. In subsequent years, due to an increase in the volume of resource support provided, survey responses may increase to as high as 4,500 due to ongoing efforts to increase awareness of the availability of resource support through NCLER.

Total Estimated Burden Hours

The burden of hours is calculated at (1) minute and 3 seconds for each respondent to complete a survey gaging satisfaction and service impact. ACL estimates a high end of 3,500 responses with a burden of hours totaling 61.25 hours, annually. Attachment A, which is posted along with the draft forms on the acl.gov Web site, explains the estimated response rate and the burden calculation.

The proposed data collection forms and Attachment A may be found on the ACL Web site for review at: https://www.acl.gov/about-acl/public-input

Summary of Burden Estimates
Respondent/data collection activity | Number of respondents | Minutes per response | Annual burden hours
Resource Support Requests | 80 | 1 min 54 sec | 2.53 hours.
Legal Training, Case Consultation, Technical Assistance Requests | 14,000 | 1 min 42 sec | 397 hours.
Outcome Measurement | 3,500 | 1 min 3 sec | 61.25 hours.
Total | 17,580 | 4 min 39 sec | 460.78 hours.

Dated: November 24, 2017.
Mary Lazare,
Principal Deputy Administrator.

[FR Doc. 2017-26116 Filed 12-4-17; 8:45 am]

BILLING CODE 4154-01-P